DEPARTMENT OF THE INTERIOR

Bureau of Land Management

[LLNV952000 L14400000.BJ0000.LXSSF2210000.241A; 13-08807; MO# 4500093537; TAS: 14X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the BLM Nevada State Office, Reno, Nevada on May 16, 2016.

The plat, in 3 sheets, representing the dependent resurvey of the south boundary, a portion of the east boundary and a portion of the subdivisional lines, and the subdivision of certain sections, in Township 14 South, Range 69 East, of the Mount Diablo Meridian, Nevada, under Group No. 910, was accepted May 12, 2015. This survey was executed at the request of Clark County to identify certain boundaries, as shown on the request for cadastral survey, dated July 5, 2011.

2. The Plat of Survey of the following described lands was officially filed at the Bureau of Land Management (BLM) Nevada State Office, Reno, Nevada on May 3, 2016:

The plat, in 10 sheets, representing the dependent resurvey of a portion of the subdivisional lines and portions of certain mineral surveys, the subdivision of sections 5 and 6, and metes-and-bounds surveys of certain Gold Hill Townsite lots, Township 16 North, Range 21 East, Mount Diablo Meridian, under Group No. 937, was accepted April 29, 2016. This survey represented on these plats was executed to determine the official boundaries of the parcel called “Lot 51” that is the subject of a Color of Title Act Class I claim by Northern Comstock, LLC.

The surveys listed above are now the basic record for describing the lands for all authorized purposes. These records have been placed in the open files in the BLM Nevada State Office and are available to the public as a matter of information. Copies of the surveys and related field notes may be furnished to the public upon payment of the appropriate fees.

Dated: May 27, 2016.
Michael O. Harmening,
Chief Cadastral Surveyor, Nevada.

[FR Doc. 2016-13238 Filed 6-3-16; 8:45 am]

BILLING CODE 4310-HC-P